DEPARTMENT OF THE INTERIOR

National Park Service

[NPS-WASO-NRNHL-DTS#-34788; PPWOCRADI0, PCU00RP14.R50000]

National Register of Historic Places; Notification of Pending Nominations and Related Actions

AGENCY: National Park Service, Interior.

ACTION: Notice.

SUMMARY: The National Park Service is soliciting electronic comments on the significance of properties nominated before October 22, 2022, for listing or related actions in the National Register of Historic Places.

DATES: Comments should be submitted electronically by November 22, 2022.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 22, 2022. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ALABAMA

Etowah County

Noojin House and Bellevue-Mineral Springs Hotel Site, 326 Bellevue Dr., Gadsden, SG100008433

FLORIDA

Wakulla County

Panacea Mineral Springs, Coastal Hwy., US 98, Panacea, SG100008423

IOWA

Polk County

Firestone District Office and Warehouse, 1775 East Euclid St., Des Moines, SG100008431

MASSACHUSETTS

Bristol County

S. Gourse & Sons Block, 162-170 Pleasant St., Fall River, SG100008429

Suffolk County

Charlotte Street-Esmond Street Historic District, 682-754 Blue Hill Ave., 50 and 64 Bradshaw, 12-62 Charlotte, 9-71 Esmond,12-16 and 206 McLellan Sts., Boston, SG100008419

Dudley Terrace-Dudley Street Historic District, 2-12 Dudley Terr., 713, 715-723, and 722-726 Dudley Street, Boston, SG100008435

Worcester County

Pierce, Sylvester K., House, 4 West Broadway, Gardner, SG100008420

Main Street and Murray Avenue Historic District, 718 and 720 Main St., 87 and 91 Murray Ave., Worcester, SG100008421

MONTANA

Deer Lodge County

Driver's Saloon and Café, (Black Montana's Heritage Places MPS), 104-106 East Commercial Ave., Anaconda, MP100008428

Mineral County

Swanson Homestead, Approx.12 miles south of Superior, Superior vicinity, SG100008425

Ravalli County

Como School, Jct. of Old Darby Rd. and US 93, Darby vicinity, SG100008424

WASHINGTON

Island County

Haller, Colonel Granville & Henrietta, House, 1 NE Front St., Coupeville, SG100008426

In the interest of preservation, a SHORTENED comment period has been requested for the following resource:

NEW MEXICO

Santa Fe County

El Rancho de las Golondrinas, 334 Los Pinos Rd., Santa Fe vicinity, SG100008430

Comment period: 3 days

Additional documentation has been received for the following resources:

ALABAMA

Baldwin County

Jenkins Farm and House (Additional Documentation), 29040 Jenkins Farm Rd., Loxley, AD16000862

COLORADO

Denver County

East High School (Additional Documentation), 1545 Detroit St., Denver, AD06000660

WEST VIRGINIA

Berkeley County

Downtown Martinsburg Historic District (Additional Documentation), (Berkeley County MRA), Roughly bounded by West Race, Water, Stephen, and Charles Sts., Martinsburg, AD80004416

Authority: Section 60.13 of 36 CFR part 60

Dated: October 25, 2022.
Sherry A. Frear,
Chief, National Register of Historic Places/National Historic Landmarks Program.

[FR Doc. 2022-24138 Filed 11-4-22; 8:45 am]

BILLING CODE 4312-52-P